DEPARTMENT OF DEFENSE

Office of the Secretary

Submission for OMB Review; Comment Request

ACTION: Notice.

The Department of Defense has submitted to OMB for clearance, the following proposal for collection of information under the provisions of the Paperwork Reduction Act (44 U.S.C. Chapter 35). Following approval, responsibility for this information collection and associated forms will be transferred to the Department of Homeland Security.

DATES: Consideration will be given to all comments received by July 6, 2004.

Title, Forms, and OMB Number: Telecommunications Service Priority System; SF Forms 314, 315, 317, 318 and 319; OMB Number 0704-0305.

Type of Request: Reinstatement.

Number of Respondents: 194.

Responses Per Respondent: 1.

Annual Responses: 1,198.

Average Burden Per Response: 12.3 hours.

Annual Burden Hours: 18,463.

Needs and Uses: The Telecommunications Service Priority (TSP) System forms are used to determine participation in the TSP system, facilitate TSP system administrative requirements, and to maintain TSP system database accuracy. The purpose of the TSP system is to provide a legal basis for telecommunications vendors to provide priority provisioning and restoration of telecommunications service supporting national security or emergency preparedness functions. The information gathered via the TSP system forms is the minimum necessary for the National Communications System to effectively manage the TSP system.

Affected Public: Business or Other For-Profit; State, Local or Tribal Government.

Frequency: On Occasion.

Respondent's Obligation: Required to Obtain or Retain Benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 South Clark Street, Suite 504, Arlington, VA 22202-4326.

Dated: May 26, 2004.
L.M. Bynum,
Alternate OSD Federal Register Liaison Officer, Department of Defense.

[FR Doc. 04-12473 Filed 6-2-04; 8:45 am]

BILLING CODE 5001-06-M